DEPARTMENT OF THE INTERIOR

Geological Survey

[Docket No. USGS-2025-0204; GX25EE000101100]

Public Meeting of the National Geospatial Advisory Committee

AGENCY: U.S. Geological Survey, Interior.

ACTION: Notice of public meeting.

SUMMARY: In accordance with the Federal Advisory Committee Act (FACA) of 1972, the U.S. Geological Survey (USGS) is publishing this notice to announce that a Federal Advisory Committee meeting of the National Geospatial Advisory Committee (NGAC) will take place and is open to members of the public.

DATES: The following meeting will be held virtually:

• Wednesday, January 28, 2026, from 1:00 p.m. to 4:00 p.m.; and Thursday, January 29, 2026, from 1:00 p.m. to 4:00 p.m. Eastern Time.

The following meeting will be held in person and virtually:

• Wednesday, March 25, 2026, from 9:00 a.m.-5:00 p.m.; and Thursday, March 26, 2026, from 9:00 a.m.-4:00 p.m. Eastern Time.

ADDRESSES: The January 2026 meeting will be held virtually. The March 2026 meeting will be held in-person in the South Penthouse Conference Room of the Department of the Interior Building, 1849 C Street NW, Washington, DC and virtually. Members of the public may attend the March meeting in person or can attend either meeting virtually. Instructions for registration to attend the meetings will be posted at www.fgdc.gov/ngac. Comments can be sent by email to gs-faca@usgs.gov or online at https://www.regulations.gov by searching for and submitting comments on Docket No. USGS-2025-0204.

FOR FURTHER INFORMATION CONTACT: Ms. Megan Compton, Federal Geographic Data Committee (FGDC), USGS, by mail at 12201 Sunrise Valley Drive, MS 590, Reston, VA 20192; by email at mrcompton@usgs.gov; or by telephone at (703) 581-3332.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: This meeting is being held under the provisions of the FACA of 1972 (5 U.S.C. Ch. 10), the Government in the Sunshine Act of 1976 (5 U.S.C. 552b, as amended), and 41 CFR part 102-3.

Purpose of the Meeting: The NGAC provides advice and recommendations to the FGDC related to management of federal and national geospatial programs, the development of the National Spatial Data Infrastructure (NSDI), and the implementation of the Geospatial Data Act of 2018 and the Office of Management and Budget Circular A-16. The NGAC reviews and comments on geospatial policy and management issues and provides a forum to convey views representative of non-federal stakeholders in the geospatial community. The NGAC is one of the primary ways that the FGDC collaborates with its broad network of partners. Additional information about the NGAC is available at: www.fgdc.gov/ngac.

Agenda Topics:

—FGDC Update

—NGAC Study Topics for FY 2026

—NSDI Integration of Artificial Intelligence

—3D Elevation Program

—Landsat Next

—GeoPlatform

—Standards and Data Access

—NSDI 2025-2035 Strategic Plan

—Public Comment

Meeting Accessibility/Special Accommodations: Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis. Seating for in-person attendees may be limited due to room capacity. Virtual attendance instructions will be provided to registered attendees prior to the meeting.

Public Disclosure of Comments: There will be an opportunity for public comments during each day of the meeting. Depending on the number of people who wish to speak and the time available, the time for individual comments may be limited. Written comments may also be sent to the NGAC for consideration. To allow for full consideration of information by NGAC members, written comments must be provided to Ms. Megan Compton (see FOR FURTHER INFORMATION CONTACT) at least three (3) business days prior to the meeting. Any written comments received will be provided to NGAC members before the meeting.

Before including your address, phone number, email address, or other personally identifiable information (PII) in your comment, you should be aware that your entire comment—including your PII—may be made publicly available at any time. While you may ask us in your comment to withhold your PII from public review, we cannot guarantee that we will be able to do so.

Authority: 5 U.S.C. Ch. 10.

Megan Compton,
Acting Executive Director, Federal Geographic Data Committee.

[FR Doc. 2025-23992 Filed 12-29-25; 8:45 am]

BILLING CODE 4338-11-P